DEPARTMENT OF THE INTERIOR

National Park Service

[NPS-WASO-NAGPRA-NPS0025563; PPWOCRADN0-PCU00RP14.R50000]

Notice of Inventory Completion: University of Arkansas Museum Collections, Fayetteville, AR

AGENCY: National Park Service, Interior.

ACTION: Notice.

SUMMARY: The University of Arkansas Museum Collections has completed an inventory of human remains, in consultation with the appropriate Indian Tribes or Native Hawaiian organizations, and has determined that there is a cultural affiliation between the human remains and present-day Indian Tribes or Native Hawaiian organizations. Lineal descendants or representatives of any Indian Tribe or Native Hawaiian organization not identified in this notice that wish to request transfer of control of these human remains should submit a written request to the University of Arkansas Museum Collections. If no additional requestors come forward, transfer of control of the human remains to the lineal descendants, Indian Tribes, or Native Hawaiian organizations stated in this notice may proceed.

DATES: Lineal descendants or representatives of any Indian Tribe or Native Hawaiian organization not identified in this notice that wish to request transfer of control of these human remains should submit a written request with information in support of the request to the University of Arkansas Museum Collections at the address in this notice by July 18, 2018.

ADDRESSES: Mary Suter, University of Arkansas Museum Collections, Biomass Building 125, 2435 North Hatch Avenue, Fayetteville, AR 72704, telephone (479) 575-3456, email msuter@uark.edu.

SUPPLEMENTARY INFORMATION: Notice is here given in accordance with the Native American Graves Protection and Repatriation Act (NAGPRA), 25 U.S.C. 3003, of the completion of an inventory of human remains under the control of the University of Arkansas Museum Collections, Fayetteville, AR. The human remains were removed from the Roden Site (34MC215), McCurtain County, OK.

This notice is published as part of the National Park Service's administrative responsibilities under NAGPRA, 25 U.S.C. 3003(d)(3). The determinations in this notice are the sole responsibility of the museum, institution, or Federal agency that has control of the Native American human remains. The National Park Service is not responsible for the determinations in this notice.

Consultation

A detailed assessment of the human remains was made by the University of Arkansas Museum Collections professional staff in consultation with representatives of the Caddo Nation of Oklahoma.

History and Description of the Remains

Between 1976 and 1978, human remains representing, at minimum, 47 individuals were removed from Roden Site (34MC215) in McCurtain, OK, by the Museum of the Red River, Gregory Perino, and Lester Roden. At a date prior to 1981, the human remains were sent to the University of Arkansas for bioarcheological analysis and subsequently, they were donated to University of Arkansas Museum Collections by Jerome Rose. The human remains consist of 13 adult males, 12 adult females, nine children, four infants, and nine adults of unknown sex (2004-4-(1-44), 2004-4-10-1, 2 & 3, 2004-4-22-1, 2). No known individuals were identified. No associated funerary objects are present.

The Roden site is located on an alluvial terrace of the Red River in southeastern Oklahoma. According to Perino, excavations and radiocarbon dates strongly correlate with a Caddo presence stretching from A.D. 1300 to 1650, which is described as the McCurtain Phase. This date can be split into two periods of intense use; the first being approximately A.D. 1300 and the second occurring between A.D.1510-1620. The human remains are associated with the second phase. Descendants of the Caddo are members of the Caddo Nation of Oklahoma.

On an unknown date, human remains representing, at minimum, seven individuals were removed from the Bowman/Wallace site (3LR50), Little River County, AR, by unknown persons. The human remains were donated to the University of Arkansas Anthropology Department at an unknown date. In 2006, they were transferred to the University of Arkansas Museum Collections. No known individuals were identified. No associated funerary objects are present.

On an unknown date, human remains representing, at minimum, one individual were removed from the Georgia Lake site (3OU112), Ouachita County, AR, by unknown persons. The human remains were donated to the University of Arkansas Anthropology Department at an unknown date. In 2006, they were transferred to the University of Arkansas Museum Collections. No known individuals were identified. No associated funerary objects are present.

Based on the geographic region, diagnostic artifacts reported at the sites, site organization, and methods of interment, the human remains removed from burials at the two sites described above date to the Fourche Maline period (A.D. 500-800) and/or Caddoan period (A.D. 800-1600). Archeological evidence suggests a cultural continuity through these periods. Archeological and historical evidence indicate that Caddoan peoples occupied the Ouachita Mountains and southwestern Arkansas during both time periods. The present-day descendants of the Caddo are members of the Caddo Nation of Oklahoma.

Determinations Made by the University of Arkansas Museum Collections

Officials of the University of Arkansas Museum Collections have determined that:

• Pursuant to 25 U.S.C. 3001(9), the human remains described in this notice represent the physical remains of 55 individuals of Native American ancestry.

• Pursuant to 25 U.S.C. 3001(2), there is a relationship of shared group identity that can be reasonably traced between the Native American human remains and the Caddo Nation of Oklahoma.

Additional Requestors and Disposition

Lineal descendants or representatives of any Indian Tribe or Native Hawaiian organization not identified in this notice that wish to request transfer of control of these human remains should submit a written request with information in support of the request to Mary Suter, University of Arkansas Museum Collections, Biomass Building 125, 2435 North Hatch Avenue, Fayetteville, AR 72704, telephone (479) 575-3456, email msuter@uark.edu., by July 18, 2018. After that date, if no additional requestors have come forward, transfer of control of the human remains to the Caddo Nation of Oklahoma may proceed.

The University of Arkansas Museum Collections is responsible for notifying the Caddo Nation of Oklahoma that this notice has been published.

Dated: May 9, 2018.
Melanie O'Brien,
Manager, National NAGPRA Program.

[FR Doc. 2018-13039 Filed 6-15-18; 8:45 am]

BILLING CODE 4312-52-P